DEPARTMENT OF THE TREASURY

Alcohol and Tobacco Tax and Trade Bureau

27 CFR Part 9

[Notice No. 30]

RIN 1513-AA67

Proposed Expansion of the Russian River Valley Viticultural Area (2003R-144T)

AGENCY: Alcohol and Tobacco Tax and Trade Bureau, Treasury.

ACTION: Notice of proposed rulemaking.

SUMMARY: The Alcohol and Tobacco Tax and Trade Bureau has received a petition proposing the expansion of the existing Russian River Valley viticultural area in Sonoma County, California. The proposed 30,200-acre expansion would increase the size of this viticultural area to 126,200 acres. We designate viticultural areas to allow vintners to better describe the origin of their wines and to allow consumers to better identify wines they may purchase. We invite comments on this proposed amendment to our regulations.

DATES: We must receive written comments on or before April 1, 2005.

ADDRESSES: You may send comments to any of the following addresses:

• Chief, Regulations and Procedures Division, Alcohol and Tobacco Tax and Trade Bureau, Attn: Notice No. 30, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N. A. Sutton, Regulations and Procedures Division, Alcohol and Tobacco Tax and Trade Bureau, 925 Lakeville St., No. 158, Petaluma, CA 94952; telephone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

Petitioners may use the same procedure to request changes involving existing viticultural areas.

Russian River Valley Expansion Petition

General Background

TTB has received a petition from the Russian River Valley Winegrowers, a wine industry association based in Fulton, California, proposing a 30,200-acre expansion of the established Russian River Valley viticultural area (27 CFR 9.66). The established Russian River Valley viticultural area is located in Sonoma County, California, about 50 miles north of San Francisco. As it currently exists, the Russian River Valley viticultural area generally lies north and west of Santa Rosa, north of Sebastopol, east of the Bohemian Highway (about 7 miles inland from the Pacific coast), and south of Healdsburg.

The Chalk Hill viticultural area (27 CFR 9.52) lies entirely within the existing Russian River Valley viticultural area's northeastern third, while about 90 percent of the Sonoma County Green Valley viticultural area (27 CFR 9.57) is within the Russian River Valley area's southwestern third. In turn, the Russian River Valley viticultural area is entirely within the Northern Sonoma viticultural area (27 CFR 9.70), and is largely within the Sonoma Coast viticultural area (27 CFR 9.116). These two larger Sonoma County areas are within the multi-county North Coast viticultural area (27 CFR 9.30).

In the vicinity of the city of Santa Rosa, the Russian River Valley Winegrowers' proposed expansion area includes the mix of rural, suburban, and urban land between Santa Rosa and Mendocino Avenues in Santa Rosa and the area's present eastern boundary. To the south, the proposed expansion would incorporate the remainder of the Sonoma County Green Valley viticultural area into the Russian River Valley area, as well as a large rural region to the west, south, and east of Sebastopol.

As petitioned, the expansion proposed by the Russian River Valley Winegrowers includes a smaller, 767-acre expansion approved by TTB in 2003. For details regarding this earlier expansion, see T.D. TTB-7, published in the Federal Register on December 2, 2003, at 68 FR 67367. T.D. TTB-7 is also posted on the TTB Internet Web site at http://www.tttb.gov.

Cooling coastal fog, which moves inland from the Pacific Ocean via the valleys of the Russian River and its tributaries, is the dominant distinguishing viticultural feature of the existing Russian River Valley viticultural area. The expansion petition states that the reach of this coastal fog is the most significant factor for including the land in the proposed expansion within the established area. Other factors noted in the petition include the expansion area's location within the Russian River Valley watershed, and, to a lesser extent, the expansion area's geology and soils, which are similar to what is found in the existing viticultural area.

Below, we summarize the evidence presented in the Russian River Valley Winegrowers' petition.

Name Evidence

The petition offers evidence that the land in the proposed expansion area to the east and south of the current Russian River Valley viticultural area is also referred to as the Russian River Valley. A State of California hydrology map shows that the Russian River Valley, including the proposed expansion area, is within the Russian River Valley watershed.

The petition also included an article from the July 2002 Wine Enthusiast magazine (page 31) that defined the Russian River Valley as “the box-shaped region that extends from Healdsburg to Santa Rosa in the east, and from Occidental to Guerneville in the west.” This description includes the proposed eastern boundary expansion. The 1996 “Wine Country” guidebook (page 196), also included in the petition, provides a “Russian River Region” map that includes the east and south sides of the proposed expansion.

The Homes and Land real estate magazine (Vol, 18, No. 7, summer of 2002) lists a “Russian River Appellation Vineyard Estate” on pages 32 and 33. The petition indicates that this estate is within the eastern portion of the proposed expansion area.

The Wine News June/July 2002 magazine publication includes an article titled “Russian River Valley Pinot Noir's Promised Land” which discusses this winegrowing area. On page 60 it notes that the 24-acre Meredith Vineyard is “located at the southern end of the RRV [Russian River Valley].” This vineyard is in the proposed expansion area as well, as noted on the United States Geological Service Sebastopol quadrangle map.

Boundary Evidence

The petition explains that, historically, agriculture in the proposed expansion area has included apples, prunes, cherries, berries, grapes, and other crops. As noted in the petition, local resident Lee Bondi recalls that in the early 1900s his family made wine from Palomino grapes on their ranch in the expansion area. Dena Bondelie, also a resident living within the proposed expansion area, remembers her father talking about the Zinfandel wine made by her grandfather at their Darby Lane property.

Tom Henderson, an area resident, recalls that during World War II his grandparents grew berries, corn, pumpkins, and acorn squash to supplement their apple crop, on their Sander Road property. Ms. Merry Edwards, a current resident, states that when she first moved to the area in 1977, it was heavily planted with apples. Some apple and prune orchards are being replaced with vineyards because of the changing agricultural markets, according to the Russian River Valley Winegrowers group.

As of spring 2003, according to the petition, there are approximately 1,070 acres planted with grapes within the proposed expansion area, with another 200 acres under development for commercial viticulture purposes.

Distinguishing Features

Treasury Decision ATF-159 of October 21, 1983 (48 FR 48813), established the Russian River Valley as a viticultural area. This Treasury Decision stated:

The Russian River viticultural area includes those areas through which flow the Russian River or some of its tributaries and where there is a significant climate effect from coastal fogs. The specific growing climate is the principal distinctive characteristic of the Russian River Valley viticultural area. The area designated is a cool growing coastal area because of fog intruding up the Russian River and its tributaries during the early morning hours.

Climate

The Russian River Valley viticultural area expansion petition states that fog is the single most unifying and significant feature of the area. This is consistent with statements in the original 1983 Russian River Valley viticultural area petition. The proposed expansion area also has heavy fog as documented by Robert Sisson, Sonoma County Viticulture Farm Advisor Emeritus, on his 1976 map titled “Lines of Heaviest and Average Maximum Fog Intrusion for Sonoma County.”

The current petition and Treasury Decision ATF-159, which established the Russian River Valley viticultural area, both refer to the Winkler degree-day (or accumulated heat units) system, which classifies grape-growing climatic regions. (Each degree that a day's mean temperature is above 50 degrees F, which is the minimum temperature required for grapevine growth, is counted as one degree day; see “General Viticulture,” Albert J. Winkler, University of California Press, 1975.) As noted in Treasury Decision ATF-159, “The Russian River Valley viticultural area is termed ‘coastal cool’ with a range of 2000 to 2800 accumulated heat units.”

The petition provides growing season temperature data from 2001 for four vineyards within the proposed expansion boundaries.

Vineyard | Degree days (accumulated heat units)
Le Carrefour | 2,636
Osley East | 2,567
Osley West | 2,084
Bloomfield | 2,332

The table above shows that the degree days for all four vineyards fall within the 2,000 to 2,800 accumulated heat units range of Winkler's “coastal cool” climate. This evidence suggests that these vineyards have the same grape-growing climate found within the established Russian River Valley viticultural area.

Elevation

The terrain within the Russian River Valley viticultural area's proposed expansion ranges in elevation from about 70 feet to the east of Sebastopol, to around 800 feet in the expansion area's west toward Occidental, as noted on USGS maps. These elevations, according to USGS maps of this portion of Sonoma County, are similar to those found within most of the established Russian River Valley viticultural area.

Soils

As indicated in the petition, there is a similar range and diversity of soils in the proposed expansion area and the originally established Russian River Valley viticultural area. This similarity is documented on the Sonoma County Soil Survey maps (USDA Conservation Service, U.S. Forest Service, and University of California Agricultural Experiment Station, undated) on survey sheets 65, 66, 73, 74, 80, 82, 88, 89, 96, and 97.

The predominant soils within the proposed Russian River Valley viticultural area expansion the petition notes, are Huichica Loam, Yolo Clay Loam, and Yolo Silt Loam. These soils are depicted on sheet 74 of the Sonoma County Soil Survey. They are also found within the established Russian River Valley viticultural area in vineyards to the north of the proposed expansion area, as documented on pages 57 and 66 of the soil survey. The 1983 Treasury Decision ATF-159 does not identify the predominant soils of the area. Nor does it indicate that the soils of the viticultural area are unique.

Watershed

According to the petition, the large Russian River watershed includes both the established Russian River Valley viticultural area and the proposed expansion area. The Russian River watershed, unit #18010110, is depicted on the State of California Hydrology map, 1978. It extends from Lake Mendocino south to Sonoma Mountain, and from Mt. St. Helena west to Jenner, where the river meets the coastline of the Pacific Ocean. The 1983 Treasury Decision, ATF-159 states that the Russian River Valley viticultural area “includes those areas through which flow the Russian River or some of its tributaries.”

Boundary Description

The 30,200-acre proposed expansion of the Russian River Valley viticultural area includes land east and south of the area's originally established boundary. The proposed expanded boundary deviates from the established boundary at a point east of Highway 101 along Mark West Springs Road. From that point, the proposed expanded boundary line, in a clockwise direction, goes south to Todd Road in Santa Rosa. It then meanders west, with a southward bulge south of Sebastopol that incorporates the crossroads hamlet of Knowles Corners. Passing north of the town of Bloomfield, the proposed expanded boundary continues northwest of Freestone, where it rejoins the area's established boundary. This expansion would increase the Russian River Valley viticultural area by about 31 percent, from 96,000 acres to 126,200 acres.

For a detailed description of the Russian River Valley's proposed expanded boundary, see the narrative boundary description the proposed regulatory text published below in this notice.

Maps

The petitioner(s) provided the required maps to document the proposed boundary, and we list them in the proposed regulatory text.

Public Participation

Comments Invited

We invite comments from interested members of the public on whether we should expand the Russian River Valley viticultural area as described above. We are especially interested in comments concerning the similarity of the proposed expansion area to the currently existing Russian River Valley viticultural area. Please support your comments with specific information about the proposed expansion area's name, proposed boundaries, or distinguishing features.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- x 11-inch page. Contact our librarian at the above address or telephone 202-927-2400 to schedule an appointment or to request copies of comments.

For your convenience, we will post this notice and any comments we receive on this proposal on the TTB Web site. We may omit voluminous attachments or material that we consider unsuitable for posting. In all cases, the full comment will be available in the TTB Library. To access the online copy of this notice, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Procedures Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

Subpart C—American Viticultural Areas

2. Amend § 9.66 by revising paragraphs (b) and (c)(8) through (c)(14), redesignating paragraphs (c)(15) through (c)(26) as (c)(23) through (c)(34), and adding new paragraphs (c)(15) through (c)(22) to read as follows:

§ 9.66 Russian River Valley.

* * * * *

(b) Approved maps. The appropriate maps for determining the boundary of the Russian River Valley viticultural area are 11 United States Geological Survey (USGS) 1:24,000 Scale topographic maps. They are titled:

(1) Healdsburg, California Quadrangle—Sonoma Co., 7.5 Minute Series, edition of 1993;

(2) Guerneville, California Quadrangle—Sonoma Co., 7.5 Minute Series, edition of 1993;

(3) Cazadero, California Quadrangle—Sonoma Co., 7.5 Minute Series, edition of 1978;

(4) Duncans Mills California Quadrangle—Sonoma Co., 7.5 Minute Series, edition of 1979;

(5) Camp Meeker, California Quadrangle—Sonoma Co., 7.5 Minute Series, edition of 1995;

(6) Valley Ford, California Quadrangle, 7.5 Minute Series, edition of 1954; photorevised 1971;

(7) Two Rock, California Quadrangle, 7.5 Minute Series, edition of 1954; photorevised 1971;

(8) Sebastopol, California Quadrangle—Sonoma Co., 7.5 Minute Series, edition of 1954; photorevised 1980;

(9) Santa Rosa, California Quadrangle—Sonoma Co., 7.5 Minute Series, edition of 1954; and

(10) Mark West Springs, California Quadrangle, 7.5 Minute Series, edition of 1998, and

(11) Jimtown, California Quadrangle—Sonoma Co., 7.5 Minute Series, edition of 1993.

(c) Boundaries. * * *

* * * * *

(8) Proceed southeast along the Bohemian Highway, crossing over the Camp Meeker map, to the town of Freestone, where the Highway intersects at BM 214 with an unnamed medium-duty road (known locally as Bodega Road, section 12, T6N, R10W, on the Valley Ford map).

(9) Proceed 0.9 mile northeast on Bodega Road to its intersection, at BM 486, with Jonvive Road to the north and an unnamed light duty road to the south, (known locally as Barnett Valley Road, T6N, R9W, on the Camp Meeker map).

(10) Proceed 2.2 miles south, followed by east, on Barnett Valley Road, crossing over the Valley Ford map, to its intersection with Burnside Road in section 17, T6N, R9W, on the Two Rock map.

(11) Proceed 3.3 miles southeast on Burnside Road to its intersection with an unnamed medium duty road at BM 375, T6N, R9W, on the Two Rock map.

(12) Proceed 0.6 mile straight southeast to an unnamed 610-foot elevation peak, 1.5 miles southwest of Canfield School, T6N, R9W, on the Two Rock map.

(13) Proceed 0.75 mile straight east-southeast to an unnamed 641-foot elevation peak, 1.4 miles south-southwest of Canfield School, T6N, R9W, on the Two Rock map.

(14) Proceed 0.85 mile straight northeast to the intersection with an unnamed intermittent stream and Canfield Road; continue 0.3 mile straight in the same northeast line of direction to its intersection with the common boundary of Ranges 8 and 9, just west of an unnamed unimproved dirt road, T6N, on the Two Rock map.

(15) Proceed 1.8 miles straight north along the common Range 8 and 9 boundary line to its intersection with Blucher Creek, T6N, on the Two Rock map.

(16) Proceed 1.25 miles generally northeast along Blucher Creek to its intersection with Highway 116, also known as Gravenstein Highway, in section 18, T6N, R8W, on the Two Rock map.

(17) Proceed 0.2 mile straight southeast along Highway 116 to its intersection with an unnamed light duty road to the north in section 18, T6N, R8W, on the Two Rock map.

(18) Proceed 0.1 mile straight northwest along the unnamed light duty road to its intersection with an unnamed medium-duty road to the east, ( known as Todd Road in Section 18, T6N, R8W, on the Two Rock map).

(19) Proceed 4.8 miles east, north, and east again along Todd Road, a medium-duty road, crossing over the Sebastopol map and then passing over U.S. Highway 101 and continuing straight east 0.1 mile to Todd Road's intersection with Santa Rosa Avenue, a primary road that is generally parallel to U.S. Highway 101, in section 2, T6N, R8W, on the Santa Rosa map.

(20) Proceed 5.8 miles generally north along Santa Rosa Avenue, which becomes Mendocino Avenue, to its intersection with an unnamed secondary road, known locally as Bicentennial Way, 0.3 mile north-northwest of BM 161 on Mendocino Avenue, section 11, T7N, R8W, on the Santa Rosa map.

(21) Proceed 2.5 miles straight north, crossing over the 906-foot elevation peak in section 35 of the Santa Rosa map, to its intersection with Mark West Springs Road and the meandering 280-foot elevation in section 26, T8N, R8W, of the Mark West Springs map.

(22) Proceed 4.8 miles north-northwest along Mark West Springs Road, which becomes Porter Creek Road, to its intersection with Franz Valley Road, a light-duty road to the north of Porter Creek Road, in section 12, T8N, R8W, on the Mark West Springs map.

* * * * *

Signed: January 24, 2005.
John J. Manfreda,
Administrator.

[FR Doc. 05-1667 Filed 1-28-05; 8:45 am]

BILLING CODE 4810-31-P